DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census Coverage Measurement Independent Listing Operation.

OMB Control Number: None.

Form Number(s): D-1302, D-1302(PR).

Type of Request: New collection.

Burden Hours: 38,563.

Number of Respondents: 1,000,000.

Average Hours per Response: 2 minutes.

Needs and Uses: The U.S. Census Bureau requests authorization from the Office of Management and Budget to conduct the Census Coverage Measurement (CCM) Independent Listing Operation as part of the 2010 Census. The 2010 CCM Independent Listing Operation will be conducted in the U.S. (excluding remote Alaska) and in Puerto Rico, in selected CCM sampled areas. As in the past, the CCM operations and activities will be conducted separate from and independent of the 2010 Census operations.

CCM will be conducted for the 2010 Census to provide estimates of net coverage error and components of coverage error (omissions and erroneous enumerations) for housing units and persons in housing units to improve future censuses. The data collection and matching methodologies for previous coverage measurement programs were designed only to measure net coverage error, which reflects the difference between omissions and erroneous inclusions.

The Independent Listing Operation is the first step in the CCM process. It will be conducted to obtain a complete inventory of all housing unit addresses within the CCM sample block clusters before the 2010 Census enumeration commences. In those block clusters throughout the 50 states (excluding remote Alaska), the District of Columbia, and Puerto Rico, listers will canvass every street, road, or other place where people might live in their assigned block clusters and construct a list of housing units. Listers will contact a member of each housing unit (or proxy, as a last resort) to ensure all units at a given address are identified. They will also identify the location of each housing unit by assigning map spots on block maps provided with their assignment materials.

Completed Independent Listing Books are subject to Dependent Quality Control (DQC) wherein DQC listers return to the field to check 12 housing units per block cluster from a pre-specified random start to ensure that the work performed is of acceptable quality and to verify that the correct blocks were visited. If the block cluster fails the DQC, then the DQC lister reworks the entire block cluster. The completed listing books are keyed for matching against the census Decennial Master Address File for the same areas.

There will be two Independent Listing Forms, D-1302 and D-1302 (PR). The D-1302 is the English version of the listing form and will be used in CCM sample areas in the 50 states (excluding remote Alaska) and the District of Columbia. The D-1302 (PR) is the Spanish version of the listing form and will be used only in the CCM sample areas in Puerto Rico.

Affected Public: Individuals or households.

Frequency: One time.

Respondent's Obligation: Mandatory.

Legal Authority: Title 13, United States Code, Section 141 authorizes the Secretary of Commerce to conduct a decennial census of the population, and Section 193 authorizes the Secretary to conduct tests to gather supplementary information related to the census.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: December 3, 2008.
Gwellnar Banks,
Management Analyst, Office of the Chief Information Officer.

[FR Doc. E8-28911 Filed 12-5-08; 8:45 am]

BILLING CODE 3510-07-P